DEPARTMENT OF THE INTERIOR

Fish and Wildlife Service

[FWS-R4-ES-2011-N129; 40120-1112-0000-F5]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by August 11, 2011.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR part 17. This notice is provided under section 10(c) of the Act.

If you wish to comment, you may submit comments by any one of the following methods. You may mail comments to the Fish and Wildlife Service's Regional Office (see ADDRESSES section) or via electronic mail (e-mail) to: permitsR4ES@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so.

Applicant: William Holimon, Arkansas Natural Heritage Commission, Little Rock, Arkansas, TE-142294.

The applicant requests renewal of authorization for trapping, banding, translocating, and installing artificial nesting cavities for red-cockaded woodpeckers (Picoides borealis) in Arkansas.

Applicant: Georgia Department of Natural Resources, Social Circle, Georgia, TE-36886A.

Applicant requests renewal of authorization to take (capture and release) Indiana bats (Myotis sodalist) and gray bats (Myotis grisescens) for the purpose of conducting presence/absence surveys, population monitoring, and ecological studies. This work will be conducted throughout Georgia.

Applicant: CCR Environmental Inc., Atlanta, Georgia, TE-59008.

Applicant requests amendment of permit to add the following species for the purpose of conducting presence/absence surveys in the States of Georgia, Tennessee, Alabama, Mississippi, Kentucky, and Louisiana: Armored snail (Pyrgulopsis pachyta), speckled pocketbook (Lampsilis streckeri), and Rabbitsfoot (Quadrula cylindrical cylindrical).

Applicant: Avian Research and Conservation Institute, Gainesville, Florida, TE-38642A.

Applicant requests authorization to take snail kites (Rostrhamus sociabilis) for the purpose of attaching scientific devices to conduct research. This activity will be conducted in Polk, Osceola, Glades, Okeechobee, Martin, Palm Beach, Hendry, Broward, Collier, Monroe and Dade Counties, Florida.

Applicant: University of Kentucky, Lexington, Kentucky, TE-38522A.

Applicant requests authorization to take Indiana bats and gray bats for the purpose of conducting research on these species within Barren, Edmonson and Hart Counties, Kentucky.

Applicant: Christopher Hintz, PhD., Savannah State University, Savannah, Georgia, TE-40005A.

Applicant requests authorization to take by the use of ground penetrating radar, nests of loggerhead sea turtle (Caretta caretta), green sea turtle (Chelonia mydas) and leatherback sea turtle (Dermochelys coriacea) for the purpose of studying nesting success. This work will be conducted throughout the Atlantic coastline of Georgia.

Applicant: Dr. David Nelson, University of South Alabama, Mobile, Alabama, TE-40523A.

Applicant requests authorization to take (trap, take tissue samples) the Alabama red-bellied turtle (Pseudemys alabamensis). This study will be conducted in the Blakeley River drainage in Alabama.

Applicant: Dr. Thomas Risch, Arkansas State University, Jonesboro Arkansas, TE-75913.

Applicant requests renewal of authorization to take (capture and release) Indiana bats, Ozark big-eared bats (Corynorhinus townsendii ingens), and gray bats for the purpose of conducting presence/absence surveys, population monitoring, and ecological studies. This work will be conducted throughout Arkansas.

Applicant: Stuart McGregor, Geologic Survey of Alabama, Tuscaloosa Alabama, TE-41252A.

Applicant requests authorization to conduct presence/absence surveys throughout Alabama for 39 listed mussel species.

Applicant: Eglin Air Force Base, Niceville Florida, TE-42183A.

The applicant requests authorization for trapping, banding, translocating and installing artificial nesting cavities for red-cockaded woodpeckers on Eglin Air Force Base, Niceville Florida.

Applicant: David Saugey, Jessieville, Arkansas, TE-43704A.

Applicant requests authorization for non-lethal take of Indiana bats, gray bats, Virginia big-eared bats (Corynorihinus townsendii virginianus) and Ozark big-eared bats for the purpose of conducting presence/absence surveys and collecting scientific data on roost sites. This work will be conducted throughout the range of these species.

Applicant: Department of Natural and Environmental Resources, Cupey, Puerto Rico, TE-125521.

Applicant requests a permit amendment to house Puerto Rican parrots (Amazona vittata) at the Puerto Rico Zoo in Mayaguez, Puerto Rico.

Dated: June 16, 2011.
Mark J. Musaus,
Acting Regional Director.

[FR Doc. 2011-17422 Filed 7-11-11; 8:45 am]

BILLING CODE 4310-55-P